DEPARTMENT OF COMMERCE

International Trade Administration

[C-791-810]

Notice of Opportunity To Request Administrative Review of Antidumping or Countervailing Duty Order, Finding, or Suspended Investigation

AGENCY: Import Administration, International Trade Administration, Department of Commerce.

EFFECTIVE DATE: December 23, 2002.

FOR FURTHER INFORMATION CONTACT: Sally C. Gannon or Sheila Forbes at (202) 482-0162 and (202) 482-4697, respectively; AD/CVD Enforcement, Office 9, Group III, Import Administration, International Trade Administration, U.S. Department of Commerce, 14th Street and Constitution Avenue, NW., Washington, DC 20230.

Background

Each year during the anniversary month of the publication of an antidumping or countervailing duty order, finding, or suspension of investigation, an interested party, as defined in section 771(9) of the Tariff Act of 1930, as amended, may request, in accordance with section 351.213 of the Department of Commerce's (the Department's) Regulations (2002), that the Department conduct an administrative review of that antidumping or countervailing duty order, finding, or suspended investigation.

On December 2, 2002, the Department published in the Federal Register (67 FR 71533) a “Notice of Opportunity to Request Administrative Review” of such orders, findings, or suspended investigations with December anniversary dates. In publishing the December 2, 2002 “Notice of Opportunity to Request Administrative Review,” the Department inadvertently omitted a reference to the countervailing duty order on Certain Hot-Rolled Carbon Steel Flat Products from South Africa C-791-810, which has a December anniversary date. Accordingly, the Department is separately publishing this notice of an opportunity for interested parties to request an administrative review of the antidumping duty order on Certain Hot-Rolled Carbon Steel Flat Products from South Africa C-791-810.

Opportunity To Request a Review

Not later than the last day of December 2002, interested parties may request administrative review of the following countervailing duty order on Certain Hot-Rolled Carbon Steel Flat Products from South Africa for the following period:

Countervailing duty proceeding | Period
South Africa: Certain Hot-Rolled Carbon Steel Flat Products, C-791-810 | 1/1/01-12/31/01

In accordance with section 351.213(b) of the regulations, an interested party as defined by section 771(9) of the Act may request in writing that the Secretary conduct an administrative review. For both antidumping and countervailing duty reviews, the interested party must specify the individual producers or exporters covered by an antidumping finding or an antidumping or countervailing duty order or suspension agreement for which it is requesting a review, and the requesting party must state why it desires the Secretary to review those particular producers or exporters. If the interested party intends for the Secretary to review sales of merchandise by an exporter (or a producer if that producer also exports merchandise from other suppliers) which were produced in more than one country of origin and each country of origin is subject to a separate order, then the interested party must state specifically, on an order-by-order basis, which exporter(s) the request is intended to cover.

Six copies of the request should be submitted to the Assistant Secretary for Import Administration, International Trade Administration, Room 1870, U.S. Department of Commerce, 14th Street & Constitution Avenue, NW., Washington, DC 20230. The Department also asks parties to serve a copy of their requests to the Office of Antidumping/Countervailing Duty Enforcement, Attention: Sheila Forbes, in room 3065 of the main Commerce Building. Further, in accordance with section 351.303(f)(1)(i) of the regulations, a copy of each request must be served on every party on the Department's service list.

The Department will publish in the Federal Register a notice of “Initiation of Administrative Review of Antidumping or Countervailing Duty Order, Finding, or Suspended Investigation” for requests received by the last day of December 2002. If the Department does not receive, by the last day of December 2002, a request for review of entries covered by an order, finding, or suspended investigation listed in this notice and for the period identified above, the Department will instruct the Customs Service to assess antidumping or countervailing duties on those entries at a rate equal to the cash deposit of (or bond for) estimated antidumping or countervailing duties required on those entries at the time of entry, or withdrawal from warehouse, for consumption and to continue to collect the cash deposit previously ordered.

This notice is not required by statute but is published as a service to the international trading community.

Dated: December 17, 2002.
Barbara E. Tillman,
Acting Deputy Assistant Secretary for Import Administration, Group III.

[FR Doc. 02-32428 Filed 12-20-02; 8:45 am]

BILLING CODE 3510-DS-P